DEPARTMENT OF THE INTERIOR

Bureau of Land Management

[CO-800-1610-DP 016C]

Notice of Availability of the Canyons of the Ancients Draft Resource Management Plan and Draft Environmental Impact Statement, Colorado

AGENCY: Bureau of Land Management, Interior.

ACTION: Notice of availability.

SUMMARY: In accordance with the National Environmental Policy Act of 1969 (NEPA, 42 U.S.C. 4321 et seq.) and the Federal Land Policy and Management Act (FLPMA) of 1976 (FLPMA, 43 U.S.C. 1701 et seq.), the Bureau of Land Management (BLM) has prepared a Draft Resource Management Plan/Draft Environmental Impact Statement (DRMP/DEIS) for the Canyons of the Ancients National Monument and by this notice is announcing the opening of the comment period. This notice also meets BLM requirements in 43 CFR 1610.7-2(b) concerning potential Areas of Critical Environmental Concern (ACECs).

DATES: A 90-day public comment period will begin the date the Environmental Protection Agency publishes their Notice of Availability in the Federal Register. The Canyon of the Ancients National Monument will announce future meetings or hearings and any other public involvement activities at least 15 days in advance through public notices, local media news releases, and/or mailings, and posting on the project Web site at http://www.blm.gov/rmp/canm. Public meetings will be held in Cortez, Denver, and Durango, Colorado and in other locations, if warranted.

ADDRESSES: The DRMP/DEIS will be posted on the Internet at: http://www.blm.gov/rmp/canm/. You may submit comments by any of the following methods:

Web site: http://www.blm.gov/rmp/canm/.

Fax: (970) 882-7035.

Mail: Monument Manager, Canyons of the Ancients National Monument, 27501 Highway 184, Dolores, CO 81323.

Comments, including names and addresses of respondents, will be available for public review at the Anasazi Heritage Center, 27501 Hwy 184, Dolores, CO 81323. Before including your address, phone number, e-mail address, or other personal identifying information in your comment, be advised that your entire comment—including your personal identifying information—may be made publicly available at any time. While you can ask us in your comment to withhold from public review your personal identifying information, we cannot guarantee that we will be able to do so. Copies of the DRMP/DEIS are also available during regular business hours at the following locations:

Anasazi Heritage Center, 27501 Highway 184, Dolores, CO 81323.

Dolores Public Lands Center, 29211 Highway 184, Dolores, CO 81323.

San Juan Public Lands Center, 15 Burnett Court, Durango, CO 81301.

Dolores Public Library, 420 Railroad Ave., Dolores, CO 81323.

Cortez Public Library, 202 N. Park, Cortez, CO 81321.

Mancos Public Library, 111 N. Main, Macos, CO 81328.

Durango Public Library, 1188 E. 2nd Ave, Durango, CO 81301.

FOR FURTHER INFORMATION CONTACT: Heather Musclow, Monument Planner, Canyons of the Ancients National Monument, 27501 Highway 184, Dolores, CO 81323; Phone: (970) 882-5632.

To have your name added to the Canyons of the Ancients Resource Management Plan mailing list or to view and download the DRMP/DEIS in portable document format (PDF) go to the project Web site: http://www.blm.gov/rmp/canm/.

SUPPLEMENTARY INFORMATION: The planning area is located in Southwest Colorado in Dolores and Montezuma counties. The plan will provide a framework to guide subsequent management decisions on approximately 164,000 acres managed by the BLM. Within the Monument boundary, there are approximately 400 acres of National Park Service lands (Hovenweep National Monument) and 18,000 acres of private inholdings. The Canyons of the Ancients National Monument is currently being managing under the BLM 1985 San Juan/San Miguel RMP and the Interim Guidance provided after the Monument was established.

• San Juan/San Miguel Resource Management Plan.

The current RMP was approved in 1985 and has been amended five times. The Wilderness Study Areas (WSA) within the Monument are being managed under interim guidance provided by the Interim Management Policy and Guidance for Lands under Wilderness Review until such time that Congress makes a final wilderness decision. The DRMP/DEIS discusses how those lands would be managed if Congress released them from wilderness study.

The Canyons of the Ancients National Monument has worked extensively with the community, interested and affected publics, Native American tribes, and cooperating agencies in the development of the DRMP/DEIS. The Monument has conducted a broad community-based public input process. Cooperating agencies include The Colorado State Historical Society and the United States Fish and Wildlife Service. Five alternatives are analyzed in the DRMP/DEIS.

• Alternative I: This is the No Action Alternative. This alternative is comprised of current management actions and goals and assumes existing or approved land uses would continue. Current management actions are assembled from three sources: Colorado Interim Management for Canyons of the Ancients National Monument (BLM 2001f), Anasazi ACEC Plan Management Guideline (BLM 1986a), and San Juan/San Miguel RMP (BLM 1985). Under this alternative, cultural resource sites would continue to be developed for visiting and interpretation.

• Alternative II: This alternative maximizes cultural resource protection by avoiding impacts to cultural resource communities, sites and isolated finds. This management strategy maintains large blocks of undisturbed land that provide information on not only individual sites and artifacts but also their interconnectedness (i.e., how they relate to each other). Alternative II would develop the “outdoor museum” concept for self-discovery of cultural and natural resources. The outdoor museum concept provides a backcountry experience to visiting publics. In addition, 13 cultural sites would be developed for public access, facilitating visitation through developed routes and interpretive signs. The development of these cultural resource sites would enhance front country visitor experiences.

• Alternative III: This alternative emphasizes the protection of cultural resource communities and sites, while providing for resource use and development. This management strategy also maintains large blocks of undisturbed land, although not as large as Alternative II, and provides for the retrieval of information on not only individual sites but also their interconnectedness (i.e., how they relate to each other). Alternative III would develop the “outdoor museum” concept for self-discovery of cultural and natural resources in addition to developing 13-25 sites for public access.

• Alternative IV: This alternative emphasizes the protection of cultural resource communities and sites while encouraging resource use and development. This management strategy maintains large blocks of undisturbed land, although not as large as Alternative II, and provides for the retrieval of information on not only individual sites but also their interconnectedness (i.e., how they relate to each other). Alternative IV would develop the “outdoor museum” concept for self-discovery of cultural and natural resources in addition to developing 13-25 sites for public access.

• Alternative V: This is the Preferred Alternative. Alternative V represents the best fit between protection of objects of the Monument and the multiple use of all resources. Alternative V emphasizes the protection of cultural resource communities and sites, while providing for resource use and development. This management strategy maintains large blocks of undisturbed land, although not as large as Alternative II, and provides for the retrieval of information on not only individual sites and artifacts but also their interconnectedness (i.e., how they relate to each other). Alternative V would promote self-discovery through the “outdoor museum” concept, in addition to 13-25 cultural sites developed for public access.

Section 202(c)(3) of FLPMA requires the DRMP/DEIS to examine the designation of Areas of Critical Environmental Concern (ACEC) on BLM lands. The Monument was an Anasazi ACEC prior to being designated a Monument. The ACEC designation has continued but is considered of little value since the Monument designation provides protection of the same outstanding characteristics. Therefore, the Anasazi ACEC designation is proposed to be dropped in this plan. The Values and Limitations to protect the natural and cultural resources of the Monument are consistent with the previous ACEC. The McElmo Research Natural Area (RNA) would continue its ACEC designation with four units proposed located immediately north of, and adjacent to, McElmo Canyon:

• McElmo Unit (existing RNA, 427 acres),

• McElmo Expansion Unit (2,738 acres),

• Cannonball Mesa Unit (2,797 acres), and

• Sand Canyon Unit (1,864 acres).

All of the RNA units have the same values and use limitations.

Potential ACEC acres vary by alternative as shown in the table below.

Acres of BLM-Managed Surface Estate Proposed To Be Managed as ACECs Under the Alternatives in the Draft LMP/EIS
Values and use limitations | Alternative I (no action) | Alternative II | Alternative III | Alternative IV | Alternative V (preferred)
McElmo RNA (ACEC) | 427 | 7,826 | 427 | 7,297 | 7,826
Values: natural systems (sensitive plants)
Limitations: apply a no surface occupancy (NSO/NGD) stipulation for areas not previously leased for oil and gas leasing and other surface disturbing activities.
Manage as VRM I.
Total Acres | 427 | 7,826 | 427 | 427 | 7,826

Major issues considered in the DRMP/DEIS include:

• Cultural Issues: Concerns included the protection/preservation of cultural resources for purposes of current and future scientific research, education, and Native American cultural heritage; development opportunities; access to cultural resource sites; and looting.

• General Recreation: Concerns included permitted and restricted types of recreation and their allocated “zones” or locations, and related roads and transportation issues, such as motorized and mechanized access and limitations.

• Transportation Network: Concerns included road closures and access, and road maintenance and improvements.

• Rangeland Management/Grazing: Concerns included management for Land Health Standards, administration of grazing allotments, and evaluation of grazing impacts in terms of current standards and guidelines.

• Mineral Resources: Concerns included limitations on oil and gas exploration and development, mitigation of impacts from existing and new mineral exploration and development.

• Visitor Use: Concerns included visitor education opportunities, facility development and improvements, and commercial and not-for-profit tours.

• Soil, Water, and Air: Concerns included the protection/preservation of soil, water, and air quality.

Sally Wisely,
Colorado State Director.

[FR Doc. E7-21011 Filed 10-25-07; 8:45 am]

BILLING CODE 4310-JB-P